FEDERAL COMMUNICATIONS COMMISSION

47 CFR Part 73

[DA 00-1144; MM Docket No. 98-218; RM-9388]

Radio Broadcasting Services; Peterstown, WV

AGENCY: Federal Communications Commission.

ACTION: Proposed rule, dismissal.

SUMMARY: This Report and Order grants a pleading seeking dismissal of a petition for rule making. The rule making petition had requested the allotment of Channel 244A at Peterstown, West Virginia and was mutually exclusive with an application (File No. BMPH-9811161F) of Equus Communications Inc. (“Equus”), licensee of Station WREL-FM, Buena Vista, Virginia. With the dismissal of the rule making petition, the proceeding was terminated and Equus's application was returned to the Audio Services Division, Mass Media Bureau, for further action.

FOR FURTHER INFORMATION CONTACT: R. Barthen Gorman, Mass Media Bureau, (202) 418-2180.

SUPPLEMENTARY INFORMATION: This is a synopsis of the Commission's Report and Order in MM Docket No. 98-218, adopted May 17, 2000, and released May 26, 2000. The full text of this Commission decision is available for inspection and copying during normal business hours in the FCC's Reference Information Center at Portals II, CY-A257, 445 12th Street, SW, Washington, DC. The complete text of this decision may also be purchased from the Commission's copy contractors, International Transcription Service, Inc., (202) 857-3800, located at 1231 20th Street, NW, Washington, DC 20036.

Federal Communications Commission.
John A. Karousos,
Chief, Allocations Branch, Policy and Rules Division, Mass Media Bureau.

[FR Doc. 00-14380 Filed 6-7-00; 8:45 am]

BILLING CODE 6712-01-P